DEPARTMENT OF TRANSPORTATION

Federal Aviation Administration

14 CFR Part 39

[Docket No. 2000-NM-411-AD; Amendment 39-13297; AD 2003-18-06]

RIN 2120-AA64

Airworthiness Directives; Airbus Model A319-131 and -132; A320-231, -232, and -233; and A321-131 and -231 Series Airplanes

AGENCY: Federal Aviation Administration, DOT.

ACTION: Final rule.

SUMMARY: This amendment adopts a new airworthiness directive (AD), applicable to certain Airbus Model A319-131 and -132; A320-231, -232, and -233; and A321-131 and -231 series airplanes, that requires installing new anti-swivel plates and weights on the engine fan cowl door latches and a new hold-open device. This action is necessary to prevent separation of the engine fan cowl door from the airplane in flight, which could result in damage to the airplane and hazards to persons or property on the ground. This action is intended to address the identified unsafe condition.

DATES: Effective October 16, 2003.

The incorporation by reference of certain publications listed in the regulations is approved by the Director of the Federal Register as of October 16, 2003.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain Airbus Model A319-131 and -132; A320-231, -232, and -233; and A321-131 and -231 series airplanes was published as a supplemental notice of proposed rulemaking (NPRM) in the Federal Register on November 21, 2002 (67 FR 70192). That supplemental NPRM proposed to require installing new anti-swivel plates and weights on the engine fan cowl door latches and a new hold-open device.

Comments

Interested persons have been afforded an opportunity to participate in the making of this amendment. One commenter requests two changes and due consideration has been given to the comments received.

Request To Delete Requirement for Installation of Weights/New Anti-Swivel Plates

The commenter asks that the proposed AD be changed to delete the requirement to install new anti-swivel plates and weights on the engine fan cowl door latches. The commenter states that the additional weight on the latch handles has not been found to be useful in preventing undetected unlatched cowls because airline mechanics typically re-latch the latch handle to the hook after opening the engine fan cowl door to avoid being hit on the head. If re-latched, the weight on the handle acts as a counterweight, and the handle swings into the flush position, which causes the handle to appear as stowed and locked.

The commenter also states that the new anti-swivel plates create a clearance problem with the drain lines and are only marginally more effective than the older-style anti-swivel plates. The commenter has found that the new anti-swivel plates are easily bent if the airline mechanic pulls the engine fan cowl door open using the latch handle. Once the plates are bent, they tend to hit and damage engine hardware, including wire harnesses, fire detectors, and drain lines, creating the potential for engine anomalies and in-flight engine shutdowns. Furthermore, the commenter states that the new anti-swivel plates cannot be installed on earlier model engines because the drain tube configuration is different. Prior to the installation of the new anti-swivel plates, the engines will have to be modified to include the new drain tube configuration, at significant cost to the operator.

The FAA does not concur with the request to delete the requirement to install new anti-swivel plates and weights on the engine fan cowl door latches. We have determined that, if the latches are not properly engaged, the new anti-swivel plates and weights both ensure that the latches will hang down farther than they did with the previous latch design, thus providing greater visibility of non-engaged latches. In addition, even if a mechanic re-latches the latch handle to the hook and the latch swings into the flush position during closing, the hold open device that is also required by this AD will provide a clear indication that the engine fan cowl doors are not closed and latched. Furthermore, the new anti-swivel plates prevent the hook from rising above the keeper ensuring that the hook and latch hang down if not properly engaged. Finally, Airbus has not received any reports of new anti-swivel plates that have been bent in production or in-service. We do agree that the new anti-swivel plates may create a clearance problem at the number 3 latch location on some older airplanes. We have coordinated with Airbus and the Direction Générale de l'Aviation Civile, the airworthiness authority for France, and they are aware of the potential clearance problem. Operators may request approval of an alternative method of compliance if any interference is discovered during accomplishment of this AD. We have not changed this final rule regarding this issue.

Request To Remove Concurrent Service Bulletin Referenced in Secondary Service Information

The same commenter asks that International Aero Engines Service Bulletin V2500-NAC-71-0227 not be included in this final rule. That service bulletin recommends the latch handles of the engine fan cowl doors be painted red. The commenter states that the paint is susceptible to screwdriver scratches and chips during opening of the engine fan cowl doors and is often covered with oil and grease. Furthermore, the commenter states that painting the latches would not increase the level of safety. The commenter also requests that definition be provided as to what percentage of the latch handles should be painted red to provide a minimum level of compliance.

We concur with the commenter. The proposed AD does not require operators to do the actions of International Aero Engines Service Bulletin V2500-NAC-71-0227. The proposed AD requires accomplishment of the actions of Airbus Service Bulletin A320-71-1028, dated March 23, 2001, which refers to International Aero Engines Service Bulletin V2500-NAC-71-0256, dated June 23, 1999, as an additional source of service information for accomplishment of the actions. Service Bulletin V2500-NAC-71-0256 recommends accomplishment of International Aero Engines Service Bulletin V2500-NAC-71-0227 as a concurrent service bulletin. It was not our intent to require accomplishment of Service Bulletin V2500-NAC-71-0227. Therefore, it is up to the operator to determine whether or not to incorporate Service Bulletin V2500-NAC-71-0227. A new Note 2 has been included in this final rule to clarify that accomplishment of Service Bulletin V2500-NAC-71-0227 is not required; and all subsequent notes have been renumbered accordingly.

Conclusion

After careful review of the available data, including the comments noted above, the FAA has determined that air safety and the public interest require the adoption of the rule with the change described previously. The FAA has determined that this change will neither increase the economic burden on any operator nor increase the scope of the AD.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the NPRM regarding that material.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

The FAA estimates that 154 airplanes of U.S. registry will be affected by this AD.

For certain airplanes, it will take approximately 5 work hours per airplane to accomplish the modification (i.e., installation of new anti-swivel plates and weights), at an average labor rate of $65 per work hour. Required parts will cost approximately $1,400 per airplane. Based on these figures, the cost impact of the modification required by this AD is estimated to be $1,725 per airplane.

For all airplanes, it will take approximately 3 work hours per airplane to accomplish the installation of the hold-open device, at an average labor rate of $65 per work hour. Required parts will cost approximately $100 per airplane. Based on these figures, the cost impact of the AD on U.S. operators is estimated to be $45,430, or $295 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-18-06 Airbus: Amendment 39-13297. Docket 2000-NM-411-AD.

Applicability: Model A319-131 and -132; A320-231, -232, and -233; and A321-131 and -231 series airplanes; certificated in any category; except those airplanes on which the following have been incorporated: Airbus Modifications 21948/P6222 and 30869 in production; Airbus Modifications 24259/P6222 and 30869 in production; Airbus Modifications 24259/P6222 and 24259/P6473 in production; or Airbus Service Bulletin A320-71-1028, dated March 23, 2001, in-service.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent separation of the engine fan cowl door from the airplane in flight, which could result in damage to the airplane and hazards to persons or property on the ground, accomplish the following:

Modification and/or Installation

(a) Within 18 months after the effective date of this AD, do the action(s) specified in paragraph (a)(1) or (a)(2) of this AD, as applicable.

(1) For Configuration 01 airplanes identified in Airbus Service Bulletin A320-71-1028, dated March 23, 2001: Modify the door latches of the fan cowl of both engines (i.e., installation of new anti-swivel plates and weights), and install a new hold-open device, per the service bulletin.

(2) For Configuration 02 airplanes identified in Airbus Service Bulletin A320-71-1028, dated March 23, 2001: Install a new hold-open device per the service bulletin.

Note 2: Airbus Service Bulletin A320-71-1028 refers to International Aero Engines Service Bulletin V2500-NAC-71-0256, dated June 23, 1999, as an additional source of service information for accomplishment of the required actions. International Aero Engines Service Bulletin V2500-NAC-71-0256 recommends that International Aero Engines Service Bulletin V2500-NAC-71-0227 be accomplished concurrently. This AD does not require accomplishment of International Aero Engines Service Bulletin V2500-NAC-71-0227.

Alternative Method of Compliance

(b) An alternative method of compliance or adjustment of the compliance time that provides an acceptable level of safety may be used if approved by the Manager, International Branch, ANM-116, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Airbus Service Bulletin A320-71-1028, dated March 23, 2001. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2001-381(B), dated September 5, 2001.

Effective Date

(e) This amendment becomes effective on October 16, 2003.

Issued in Renton, Washington, on August 29, 2003.
Vi L. Lipski,
Manager, Transport Airplane Directorate, Aircraft Certification Service.

[FR Doc. 03-22705 Filed 9-10-03; 8:45 am]

BILLING CODE 4910-13-P